FEDERAL COMMUNICATIONS COMMISSION

47 CFR Part 73

[DA 05-714; MB Docket No. 05-121, RM-11197; MB Docket No. 05-122, RM-11198]

Radio Broadcasting Services; Columbus and Monona, WI; and Knightdale and Wilson, NC

AGENCY: Federal Communications Commission.

ACTION: Proposed rule.

SUMMARY: This document proposes two changes of community reallotments for Columbus and Monona, Wisconsin; and Wilson and Knightdale, North Carolina.

The Audio Division requests comments on a petition filed by Capstar TX Limited Partnership proposing the reallotment of Channel 291C0 from Wilson to Knightdale, North Carolina, and the modification of Station WRDU(FM)'s license accordingly. Channel 291C0 can be reallotted to Knightdale in compliance with the Commission's minimum distance separation requirements with a site restriction of 10 kilometers (6.2 miles) east to avoid short-spacings to the licensed site of Station WFJA(FM), Channel 288A, Sanford, North Carolina, and the licensed site of Station WMNA-FM, Channel 292A, Gretna, Virginia. The Audio Division granted Station WRDU(FM) a license to specify operation on Channel 291C0 in lieu of Channel 291C on April 10, 2003. See BLH-20020607AAR. This change is not reflected in The FM Table of Allotments. The reference coordinates for Channel 291C0 at Knightdale are 35-47-50 NL and 78-22-15 WL. In accordance with the provisions of Section 1.420(i) of the Commission's Rules, we will not accept competing expressions of interest for the use of Channel 291C0 at Knightdale, North Carolina, or require petitioner to demonstrate the existence of an equivalent class channel for the use of other interested parties. See SUPPLEMENTARY INFORMATION, infra.

DATES: Comments must be filed on or before May 9, 2005, reply comments on or before May 24, 2005.

ADDRESSES: Federal Communications Commission, Washington, DC 20554. In addition to filing comments with the FCC, interested parties should serve the petitioner, or its counsel or consultant, as follows: Mark N. Lipp, Esq., Vinson and Elkins, L.L.P., 1455 Pennsylvania Ave., NW., Suite 600, Washington, DC 20004-1008 (Counsel for Capstar TX Limited Partnerhip); and John D. Poutasse, Esq., Leventhal, Senter & Lerman, PLLC, 2000 K Street, NW., Suite 600, Washington, DC 20006-1809 (Counsel for Good Karma Broadcasting, LLC).

FOR FURTHER INFORMATION CONTACT: Sharon P. McDonald, Media Bureau, (202) 418-2180.

SUPPLEMENTARY INFORMATION: This is a synopsis of the Commission's Notice of Proposed Rule Making, MB Docket No. 05-121, MB Docket No. 05-122, adopted March 16, 2005, and released March 18, 2005. The full text of this Commission decision is available for inspection and copying during normal business hours in the FCC Reference Information Center (Room CY-A257), 445 12th Street, SW., Washington, DC. This document may also be purchased from the Commission's copy contractor, Best Copy and Printing, Inc., Portals II, 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Audio Division requests comments on a petition filed by Good Karma Broadcasting, LLC, proposing the reallotment of Channel 263A from Columbus to Monona, Wisconsin, and the modification of Station WTLX(FM)'s license accordingly. Channel 263A can be reallotted to Monona in compliance with the Commission's minimum distance separation requirements with a site restriction of 9.1 kilometers (5.7 miles) north to avoid a short-spacing to the licensed site of Station WJVL(FM), Channel 260B1, Janesville, Wisconsin. The reference coordinates for Channel 263A at Monona are 43-08-19 NL and 89-22-27 WL. In accordance with the provisions of Section 1.420(i) of the Commission's Rules, we will not accept competing expressions of interest for the use of Channel 263A at Monona, Wisconsin, or require petitioner to demonstrate the existence of an equivalent class channel for the use of other interested parties.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under North Carolina, is amended by adding Knightdale, Channel 291C0, and removing Channel 291C at Wilson.

3. Section 73.202(b), the Table of FM Allotments under Wisconsin, is amended by removing Columbus, Channel 263A, and adding Monona, Channel 263A.

Federal Communications Commission.
John A. Karousos,
Assistant Chief, Audio Division, Media Bureau.

[FR Doc. 05-6570 Filed 4-1-05; 8:45 am]

BILLING CODE 6712-01-P